DEPARTMENT OF ENERGY

Federal Energy Regulatory Commission

[Docket No. RP00-460-001]

Total Peaking Services, LLC; Notice of Compliance Filing

November 28, 2001.

Take notice that on November 21, 2001, Total Peaking Services, L.L.C. submitted revised tariff sheets in response to the Commission's June 4, 2001 Order on Order No. 637 Compliance Filing. The June 4 Order held that Total Peaking was in compliance with Order No. 637 and required Total Peaking to file actual tariff sheets in place of the pro forma sheets previously submitted. The tariff sheets submitted in response to the Commission's Order are as follows:

Revised Sheet No. 65

Revised Sheet No. 67

Revised Sheet No. 82

Revised Sheet No. 86

Revised Sheet No. 97

Revised Sheet No. 98

Any person desiring to protest said filing should file a protest with the Federal Energy Regulatory Commission, 888 First Street, NE., Washington, DC 20426, in accordance with section 385.211 of the Commission's rules and regulations. All such protests must be filed in accordance with section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-29977 Filed 12-3-01; 8:45 am]

BILLING CODE 6717-01-P